DEPARTMENT OF THE INTERIOR

National Park Service

[NPS-WASO-NAGPRA-NPS0031767; PPWOCRADN0-PCU00RP14.R50000]

Notice of Inventory Completion: U.S. Department of Defense, Defense Health Agency, National Museum of Health and Medicine, Silver Spring, MD

AGENCY: National Park Service, Interior.

ACTION: Notice.

SUMMARY: The U.S. Department of Defense, Defense Health Agency, National Museum of Health and Medicine has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the National Museum of Health and Medicine. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the National Museum of Health and Medicine at the address in this notice by May 27, 2021.

ADDRESSES: Mr. Brian F. Spatola, Curator of Anatomical Division, National Museum of Health and Medicine, U.S. Army Garrison Forest Glen, 2500 Linden Lane, Silver Spring, MD 20910, telephone (301) 319-3353, email brian.f.spatola.civ@mail.mil.

SUPPLEMENTARY INFORMATION: Notice is here given in accordance with the Native American Graves Protection and Repatriation Act (NAGPRA), 25 U.S.C. 3003, of the completion of an inventory of human remains under the control of the U.S. Department of Defense, Defense Health Agency, National Museum of Health and Medicine, Silver Spring, MD. The human remains were removed from near Fort Cameron, Beaver County, UT.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the National Museum of Health and Medicine professional staff in consultation with representatives of the Paiute Indian Tribe of Utah (Cedar Band of Paiutes, Kanosh Band of Paiutes, Indian Peaks Band of Paiutes, and Shivwits Band of Paiutes [previously listed as Paiute Indian Tribe of Utah (Cedar City Band of Paiutes, Kanosh Band of Paiutes, Koosharem Band of Paiutes, Indian Peaks Band of Paiutes, and Shivwits Band of Paiutes)] and the Ute Indian Tribe of the Uintah & Ouray Reservation, Utah (hereafter referred to as “The Tribes”).

History and Description of the Remains

In 1874, human remains representing, at minimum, one individual were removed from a site near Fort Cameron in Beaver County, UT. The human remains consist of the humerus of an adult male between 30-40 years old. The humerus exhibits a healed fracture of the humeral head. The human remains were collected and donated to the Army Medical Museum (today the National Museum of Health and Medicine) by U.S. Army Assistant Surgeon Frederick W. Elbrey in September 1874. No known individual was identified. No associated funerary objects are present.

Written correspondence from collector Assistant Surgeon Elbrey describes the human remains as belonging to a “Pah Ute Indian from a grave near Fort Cameron, U.T.” Fort Cameron is near Beaver, in Beaver County, Utah. Geographical evidence suggests this individual was part of the local band known as the Beaver band or Kwi-um'-pus band. The Beaver band intermarried with the nearby Kanosh, or Pahvant Ute band, and descendants of the Kanosh band are found today among the Paiute Tribe of Utah and the Ute Indian Tribe of the Uintah & Ouray Reservation, Utah.

Determinations Made by the U.S. Department of Defense, Defense Health Agency, National Museum of Health and Medicine

Officials of the U.S. Department of Defense, Defense Health Agency, National Museum of Health and Medicine have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Mr. Brian F. Spatola, Curator of Anatomical Division, National Museum of Health and Medicine, U.S. Army Garrison Forest Glen, 2500 Linden Lane, Silver Spring, MD 20910, telephone (301) 319-3353, email brian.f.spatola.civ@mail.mil, by May 27, 2021. After that date, if no additional requestors have come forward, transfer of control of the human remains to The Tribes may proceed.

The U.S. Department of Defense, Defense Health Agency, National Museum of Health and Medicine is responsible for notifying The Tribes that this notice has been published.

Dated: April 19, 2021.
Melanie O'Brien,
Manager, National NAGPRA Program.

[FR Doc. 2021-08767 Filed 4-26-21; 8:45 am]

BILLING CODE 4312-52-P